DEPARTMENT OF HEALTH AND HUMAN SERVICES

Centers for Disease Control and Prevention

Development of Best Practices for Community Health Needs Assessment and Implementation Strategy; Public Forum

AGENCY: Centers for Disease Control and Prevention (CDC), Department of Health and Human Services (HHS).

ACTION: Notice of public meeting.

SUMMARY: The Centers for Disease Control and Prevention (CDC), located within the Department of Health and Human Services (HHS), will hold a public forum from July 11-13, 2011 on processes relating to community health needs assessment (CHNA) and implementation strategy/plan development and execution. HHS/CDC is developing best practices designed to support state and local health departments to meet public health accreditation standards, and by other entities who may wish to utilize them in their community health planning processes. This notice announces the public forum.

DATES: The public forum will be held on: Monday, July 11, 2011, from 1 to 5:30 p.m. EST, Tuesday, July 12, 2011, from 8 a.m. to 5 p.m. EST, and Wednesday, July 13, 2011, from 8 a.m. to 4 p.m. EST.

ADDRESSES: The public forum will be held at the Emory Conference Center Hotel, 1615 Clifton Road, Atlanta, GA 30329. Please visit the Emory Conference Center Hotel Web site for additional information and directions to the facility: http://www.emoryconferencecenter.com/map-directions/.

Registration: HHS/CDC is working with the National Network of Public Health Institutes (NNPHI) to manage on-line registration and provide logistical support. Participants are encouraged to preregister for the public forum. On-line registration and a draft agenda are available at: http://www.regonline.com/2011CHNAPublicForum. As space is limited, registration is limited to the first 200 registrants. CDC and NNPHI will make every effort to accommodate persons with physical disabilities or special needs. If you require special accommodations due to a disability, please contact Anooj Pattnaik, Project Coordinator for NNPHI, at (504) 301-9847 or via e-mail at apattnaik@nnphi.org at least 7 days in advance of the meeting.

FOR FURTHER INFORMATION CONTACT: Simeon Niles, Office of Prevention Through Healthcare, Office of the Associate Director for Policy, Centers for Disease Control and Prevention, 1600 Clifton Road, NE., Atlanta, Georgia 30333; phone: (404) 639-7522.

SUPPLEMENTARY INFORMATION: As the principal Federal public health authority, HHS/CDC intends to develop best practices in CHNA and implementation strategy development and execution for improved community health outcomes. These best practices are intended to support community health planning and implementation activities, including national public health accreditation activities wherein state and local health departments must conduct “community health assessments” and develop community health improvement plans. Currently, there is considerable variation in CHNA processes, and many available tools lack standards to support their use in fulfilling regulatory and accreditation requirements. In addition, development of best practices in CHNA may assist charitable hospital organizations to conduct a CHNA and adopt an implementation strategy, as required by Section 9007(a) of the Affordable Care Act (ACA) (Pub. L. 111-148). Additional information regarding the CHNA requirement is available at http://www.irs.gov. Proceedings from this public forum will be compiled in a report to serve as input to the best practices guidelines which CDC intends to publish later this year.

Agenda: The meeting will include presentations related to national public health accreditation standards, current practices in CHNA, implementation strategy/plan development and execution, and the best practices development process. The meeting will consist of panel presentations. Participants attending the public forum will be invited to provide comment at the end of each panel discussion. NNPHI will make every effort to make available to the public the final agenda and panelists' presentations two business days before the meeting. The final agenda and panelists' presentations will be available at HTTP://WWW.REGONLINE.COM/2011CHNAPUBLICFORUM. The agenda is subject to change without notice. If NNPHI is unable to post the presentations on the registration Web site prior to the meeting, the material will be made publicly available at the location of the meeting.

Procedure: Oral comments from the public will be scheduled during public comment periods at the end of each panel discussion. Each commenter will be limited to 3-5 minutes. If the number of participants requesting to comment is greater than can be reasonably accommodated, NNPHI may conduct a lottery to determine the speakers for the scheduled public comment sessions. Individuals interested in making formal comments may submit their comments to the Office of Prevention through Healthcare mailbox at: http://www.cdc.gov/policy/opth. Comments must be submitted by 5 p.m. on July 20, 2011 and include “Best Practices Guidelines” in the subject line.

Dated: June 16, 2011.
Tanya Popovic,
Deputy Associate Director for Science, Centers for Disease Control and Prevention.

[FR Doc. 2011-15839 Filed 6-23-11; 8:45 am]

BILLING CODE 4163-18-P